DEPARTMENT OF THE TREASURY

Office of the Comptroller of the Currency

[Docket ID OCC-2020-0030]

Minority Depository Institutions Advisory Committee

AGENCY: Office of the Comptroller of the Currency (OCC), Department of the Treasury.

ACTION: Notice.

SUMMARY: The OCC has determined that the renewal of the charter of the OCC Minority Depository Institutions Advisory Committee (MDIAC) is necessary and in the public interest. The OCC hereby gives notice of the renewal of the charter.

DATES: The charter of the OCC MDIAC has been renewed for a two-year period that began on June 23, 2020.

FOR FURTHER INFORMATION CONTACT: Beverly F. Cole, Deputy Comptroller for the Northeastern District and Designated Federal Officer, (212) 340-4001, Office of the Comptroller of the Currency, 340 Madison Ave. Fifth Floor, New York, NY 10173.

SUPPLEMENTARY INFORMATION: Notice of the renewal of the MDIAC charter is hereby given, with the approval of the Secretary of the Treasury, pursuant to section 9(a)(2) of the Federal Advisory Committee Act, 5 U.S.C. App. The Comptroller of the Currency has determined that the renewal of the MDIAC charter is necessary and in the public interest to provide advice and information about the current circumstances and future development of minority depository institutions, in accordance with the goals established by section 308 of the Financial Institutions Reform, Recovery, and Enforcement Act of 1989 (FIRREA), Public Law 101-73, Title III, 103 Stat. 353, 12 U.S.C. 1463 note, which are to preserve the present number of minority depository institutions, preserve the minority character of minority depository institutions in cases involving mergers or acquisitions, provide technical assistance, and encourage the creation of new minority depository institutions.

Brian P. Brooks,
Acting Comptroller of the Currency.

[FR Doc. 2020-15257 Filed 7-14-20; 8:45 am]

BILLING CODE P